DEPARTMENT OF THE INTERIOR

Bureau of Land Management

[LLNVB01000. L51100000.GN0000. LVEMF 1503550.15X MO# 4500077415]

Notice of Intent To Prepare an Environmental Impact Statement for the Proposed Gold Bar Mine Project, Eureka County, NV

AGENCY: Bureau of Land Management, Interior.

ACTION: Notice.

SUMMARY: In compliance with the National Environmental Policy Act of 1969, as amended (NEPA), and the Federal Land Policy and Management Act of 1976, as amended, the Bureau of Land Management (BLM) Mount Lewis Field Office, Battle Mountain, Nevada, intends to prepare an Environmental Impact Statement (EIS) and by this notice is announcing the beginning of the scoping process to solicit public comments and identify issues.

DATES: This notice initiates the public scoping process for the EIS. Comments on issues may be submitted in writing until October 13, 2015. The date(s) and location(s) of any scoping meetings will be announced at least 15 days in advance through local media, newspapers and the BLM Web site at: http://www.blm.gov/nv/st/en/fo/battle_mountain_field/blm_information/national_environmental.html. In order to be included in the Draft EIS, all comments must be received prior to the close of the 30-day scoping period or 15 days after the last public meeting, whichever is later. We will provide additional opportunities for public participation upon publication of the Draft EIS.

ADDRESSES: You may submit comments related to the Gold Bar Mine Project by any of the following methods:

• Web site: http://www.blm.gov/nv/st/en/fo/battle_mountain_field/blm_information/national_environmental.html.

• Email: blm_nv_bmdo_mlfo_gold_bar_project_eis@blm.gov.

• Fax: 775-635-4034.

• Mail: 50 Bastian Road, Battle Mountain, Nevada 89820.

Documents pertinent to this proposal may be examined at the Mount Lewis Field Office.

FOR FURTHER INFORMATION CONTACT: Joseph Moskiewicz—Project Manager, telephone 775-635-4000; address 50 Bastian Road, Battle Mountain, Nevada 89820; email blm_nv_bmdo_mlfo_gold_bar_project_eis@blm.gov. Contact Mr. Joseph Moskiewicz to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: McEwen Mining Inc. (McEwen) proposes to develop a gold mine in the southwest portion of the Roberts Mountains, approximately 30 miles northwest of Eureka, Nevada. The proposed McEwen Gold Bar Mine Project (Project) consists of a mining Plan of Operations and four ROW grant authorizations to be analyzed in a single NEPA analysis document. Mining would occur from the existing Gold Pick and Gold Ridge pits and the proposed Cabin Creek North and South pits. Additional disturbance would be result from activities associated with gold mining operations, including waste rock disposal areas, crusher and ore stockpile pad, growth media stockpiles, process ponds, haul roads, access roads and power lines, heap leach facility, ancillary facilities, and diversion channels and sediment basins. Total proposed Project disturbance would be approximately 1,300 acres, including disturbance associated with the ROWs (consisting of approximately 1,137 acres of surface disturbance on public land and 163 acres of surface disturbance on private land controlled by McEwen, as well as other private land owners); 366 acres of the total disturbance would occur on areas disturbed by previous mining operations. The proposed Project would take up to 17 years to complete, including: A year of pre-stripping and construction, 8 years of mining, 4 years of reclamation following mine closure, and 4 years of post-reclamation monitoring. The proposed pit depths would not intercept groundwater. No pit dewatering would be necessary and no pit lakes are expected to form after mining operations end. The Project is expected to employ 151 individuals comprised of 90 contractors and 61 staff.

Mt. Wheeler Power requested a ROW grant authorization to supply needed power to the Project. McEwen has requested three ROW grant authorizations for the following: 1) Primary access along the Atlas Haul Road; 2) Employee transport and emergency secondary access along North Roberts Creek Road and GB Process Road; and 3) A water supply pipeline.

The Gold Bar Project boundary contains 916.5 acres of Greater Sage-Grouse Preliminary Priority Habitat (PPH) on BLM-managed public lands. The total mine disturbance, including the right-of-way (ROW), affecting Greater Sage-Grouse habitat on public land is 294 acres of PPH and 36 acres of Preliminary General Habitat (PGH). Since 2013, BLM biologists at the Mount Lewis Field Office have coordinated with the Nevada Department of Wildlife and the BLM State Office regarding Gold Bar's ROW and disturbance to Greater Sage-Grouse habitat. Collectively, the organizations formulated best management practices for Greater Sage-Grouse and other wildlife species and developed measures to offset the potential disturbance associated with the project to benefit Greater Sage-Grouse habitat. For example, as a result of this collaboration, the proposed project's power line was re-routed to use pre-existing routes in order to minimize effects to Greater Sage-Grouse habitat. These and other measures, including compliance with the Nevada and Northeastern California Greater Sage-Grouse Land Use Plan Amendment, if finalized, will be among the issues analyzed in the EIS.

The purpose of the public scoping process is to determine relevant issues that will influence the scope of the environmental analysis, including alternatives, and guide the process for developing the EIS. At present, the BLM has identified the following preliminary issues: Water resources; air quality; vegetation resources (including noxious weeds); wildlife (including migratory birds and Greater Sage-Grouse); special status species; grazing management; land use and access; aesthetics (noise and visual); cultural resources; geological resources; minerals; soils; recreation; social and economic values; hazardous materials; Native American cultural concerns; and wild horses.

The BLM will utilize and coordinate the NEPA scoping process to help fulfill the public involvement requirements under the National Historic Preservation Act (NHPA) (54 U.S.C. 306108) as provided in 36 CFR 800.2(d)(3). The information about historic and cultural resources within the area potentially affected by the proposed Project will assist the BLM in identifying and evaluating impacts to such resources in the context of both NEPA and NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7

Joseph S. Moskiewicz, Jr.,
Acting Field Manager, Mount Lewis Field Office.

[FR Doc. 2015-22907 Filed 9-10-15; 8:45 am]

BILLING CODE 4310-HC-P